DEPARTMENT OF HEALTH AND HUMAN SERVICES

DEPARTMENT OF AGRICULTURE

Announcement of the Availability of the Final Report of the Dietary Guidelines Advisory Committee, a Public Comment Period, and a Public Meeting

AGENCIES: Office of Public Health and Science, HHS; and Food, Nutrition and Consumer Services and Research, Education and Economics, USDA.

ACTION: Notice.

SUMMARY: The Department of Health and Human Services (HHS) and the Department of Agriculture (USDA) (a) announce the availability of the final Report of the Dietary Guidelines Advisory Committee on the Dietary Guidelines for Americans, 2005 (Report); (b) solicit written comments on the Report; and (c) provide notice of a public meeting to solicit oral comments on the Report. The meeting will be held at the Hubert H. Humphrey Building, 200 Independence Avenue, SW., Small Auditorium, Washington, DC, 20201. Registration is required to provide oral comments at the meeting and to attend the meeting.

DATES: (a) The final report of the Dietary Guidelines Advisory Committee (the Committee) will be available for comments on August 27, 2004. (b) Written comments on the Committee's report can be submitted and must be received by the Agencies on or before 5 p.m. E.D.T., September 27, 2004. (c) The public meeting to solicit oral comments on the report will be held on September 21, 2004 , starting at 9 a.m. E.D.T. Requests to present oral testimony must be received by 5 p.m. E.D.T., September 14, 2004.

ADDRESSES: (a) The final Report of the Committee is available electronically at http://www.health.gov/dietaryguidelines or in hard copy for viewing at Suite LL100, 1101 Wootton Parkway, Rockville, Maryland 20852. (b) Written comments may be submitted at http://www.health.gov/dietaryguidelines or mailed to Kathryn McMurry, HHS Office of Disease Prevention and Health Promotion, Office of Public Health and Science, 1101 Wootton Parkway, Suite LL100, Rockville, Maryland 20852, (phone 240-453-8280). (c) The public meeting will be held at the Hubert H. Humphrey Building, 200 Independence Avenue, SW., Small Auditorium, Washington, DC, 20201.

FOR FURTHER INFORMATION CONTACT: HHS Co-Executive Secretary: Kathryn McMurry (phone 240-453-8272), HHS Office of Disease Prevention and Health Promotion, Office of Public Health and Science, 1101 Wootton Parkway, Suite LL100, Rockville, MD 20852. USDA Co-Executive Secretaries: Carole Davis (phone 703-305-7600), USDA Center for Nutrition Policy and Promotion, 3101 Park Center Drive, Room 1034, Alexandria, Virginia 22302, or Pamela Pehrsson (phone 301-504-0716), USDA Agricultural Research Service, Beltsville Agricultural Research Center-West, Building 005, Room 309A, Beltsville, Maryland 20705. Additional information is available on the Internet at http://www.health.gov/dietaryguidelines.

SUPPLEMENTARY INFORMATION:

I. Dietary Guidelines Advisory Committee Report

The thirteen-member Dietary Guidelines Advisory Committee was appointed by the Departments of Health and Human Services and Agriculture in August, 2003 to assist the Departments in providing sound and current dietary guidance to consumers. The National Nutrition Monitoring and Related Research Act of 1990, Public Law 101-445, Title III, 7 U.S.C. 5301 et seq., requires the Secretaries of HHS and USDA to publish the Dietary Guidelines for Americans at least every five years. During its first meeting on September 23-24, 2003, the Committee decided that the science has changed since the 2000 edition of Nutrition and Your Health: Dietary Guidelines for Americans and further evaluation of the science was necessary. The Committee has finalized its recommendations and submitted its Report to the Secretaries of the Departments of Health and Human Services and Agriculture. This Report will serve as the basis for the sixth edition of Nutrition and Your Health: Dietary Guidelines for Americans, which HHS and USDA expect to publish in January, 2005.

The final report of the Dietary Guidelines Advisory Committee is available electronically at http://www.health.gov/dietaryguidelines or in hard copy for viewing (refer to the ADDRESSES section, above).

II. Written Comment

By this notice, HHS and USDA are soliciting submission of written comments on the Committee's final Report, as well as views, information and data pertinent to preparation of Nutrition and Your Health: Dietary Guidelines for Americans. Comments must be received by 5 p.m. e.d.t. on September 27, 2004 to assure consideration. Comments may be submitted at http://www.health.gov/dietaryguidelines or mailed to Kathryn McMurry, HHS Office of Disease Prevention and Health Promotion, Office of Public Health and Science, 1101 Wootton Parkway, Suite LL100, Rockville, MD 20852, (phone 240-453-8280). For those submitting written comments more than 5 pages in length, please provide a 1-page summary of key points related to the comments submitted. E-mailed comments will not be accepted.

III. Announcement of Meeting

A public meeting to solicit oral comments on the Report will take place on September 21, 2004, starting at 9 a.m. e.d.t. The meeting will be held at the Hubert H. Humphrey Building, 200 Independence Avenue, SW., Small Auditorium, Washington, DC, 20201. The building is located 2 blocks from the Federal Center, SW. stop on the blue and orange metro lines. The agenda will include oral testimony from registered individuals or groups.

Public Participation at Meeting: The meeting is open to the public. Space is limited. Due to the need for security screening, registration is required for all attendees. To register, please e-mail dietaryguidelines@osophs.dhhs.gov, with “Meeting Registration” in the subject line or call Sandra Saunders at (240) 453-8272 by 5 p.m. e.d.t., Friday, September 14, 2004. Registration must include your name, affiliation, and phone number. Visitors must bring proper identification to attend the meeting. If you require a sign language interpreter, please call Sandra Saunders at (240) 453-8272 by September 14, 2004.

Oral Testimony: By this notice, the Departments are inviting submission of applications for oral testimony at the public meeting. Due to time limitations, registration is required and will be limited to one presenter per organization. Registration to present oral testimony will be confirmed on a first-come, first-served basis, as time on the meeting agenda permits. Name of the presenter, organization affiliation (if applicable), source of funding, and contact phone number are required for registration. Requests to testify must include a written outline of the intended testimony not exceeding one page in length. Requests can be submitted electronically with “Oral Testimony Registration” in the subject line, to dietaryguidelines@osophs.dhhs.gov. All requests to present oral testimony must be received by 5 p.m. e.d.t., September 14, 2004. Presenters are required to disclose their affiliation and their source of funding to give oral testimony at the meeting and must limit their comments to three minutes. Please call Sandra Saunders at (240) 453-8272 if you have questions regarding registration.

Dated: August 23, 2004.
Penelope S. Royall,
Deputy Assistant Secretary for Health, (Disease Prevention and Health Promotion), Department of Health and Human Services.
Dated: August 23, 2004.
Eric J. Hentges,
Executive Director, Center for Nutrition Policy and Promotion, Department of Agriculture.

[FR Doc. 04-19563 Filed 8-26-04; 8:45 am]

BILLING CODE 4150-32-P